SOCIAL SECURITY ADMINISTRATION

[Docket No. SSA-2007-0045]

20 CFR Parts 404, 405 and 416

RIN 0960-AG53

Suspension of New Claims to the Federal Reviewing Official Review Level; Correction

AGENCY: Social Security Administration.

ACTION: Final rule; correction.

SUMMARY: The Social Security Administration is correcting a final rule that appeared in the Federal Register on January 15, 2008 (73 FR 2411). The document amends our disability administrative adjudication processes to suspend new claims to the Federal reviewing official (FedRO) level, now operating in the Boston region. Claims already transferred to the Office of the Federal Reviewing Official (OFedRO) for FedRO review will continue to be processed by the OFedRO and a related component of the disability determination process, the Medical and Vocational Expert System (MVES), commonly known as the Office of Medical and Vocational Expertise (OMVE).

DATES: This correction is effective February 27, 2008.

FOR FURTHER INFORMATION CONTACT: Dean S. Landis, Social Security Administration, 6401 Security Boulevard, Baltimore, MD 21235-6401, (410) 965-0520 for information about this notice. For information on eligibility or filing for benefits, call our national toll-free number, 1-800-772-1213 or TTY 1-800-325-0778, or visit our Internet site, Social Security Online, at http://www.socialsecurity.gov.

SUPPLEMENTARY INFORMATION: The final rule had an effective date of March 15, 2008. The Congressional Review Act requires a 60-day delay in the effective date of a major rule from the date of publication in the Federal Register or receipt of the rule by Congress, whichever is later. (5 U.S.C. 801(a)(3)(A).) The rule was published on January 15, 2008, but it was not received by Congress until January 23, 2008. Therefore, the rule did not have the required 60-day delay in its effective date. Therefore, in FR Doc. E8-148 appearing on page 2411 in the Federal Register of Tuesday, January 15, 2008, the following corrections are made:

1. On page 2411, in the first column, in the DATES caption, “March 15, 2008” is corrected to read “March 23, 2008”.

§ 405.240 [Corrected]

2. On page 2415, in the second column, in § 405.240, in paragraph (a), “March 17, 2008” is corrected to read “March 23, 2008”.

Paul Kryglik,
Social Security Regulations Officer.

[FR Doc. E8-3645 Filed 2-26-08; 8:45 am]

BILLING CODE 4191-02-P